DEPARTMENT OF AGRICULTURE

Agricultural Marketing Service

[Doc. # TB-03-04]

National Advisory Committee for Tobacco Inspection Services; Open Meeting

AGENCY: Agricultural Marketing Service, USDA.

ACTION: Notice of advisory committee meeting.

SUMMARY: In accordance with the Federal Advisory Committee Act (5 U.S.C. App. II) announcement is made of a forthcoming meeting of the National Advisory Committee for Tobacco Inspection Services.

DATES: March 11, 2003, 9 a.m.

ADDRESSES: The meeting will be held at the Old Town Alexandria Holiday Inn, 480 King Street, Alexandria, Virginia 22314.

FOR FURTHER INFORMATION CONTACT: John P. Duncan III, Deputy Administrator, Tobacco Programs, AMS, USDA, Telephone number (202) 205-0567 or fax (202) 205-0235.

SUPPLEMENTARY INFORMATION: The purpose of the meeting is to elect officers, recommend the level of service to be provided to producers by AMS, review the financial status of the tobacco inspection program, recommend the user fee rate needed to maintain the desired level of service for the 2003-2004 marketing season, and review various regulations issued pursuant to the Tobacco Inspection Act (7 U.S.C. 511 et seq.), and the Agriculture, Rural Development, Food and Drug Administration, and Related Agencies Appropriations Act for 2002 (Pub. L. 107-76; 7 U.S.C. 511s).

The meeting is open to the public. Persons, other than members, who wish to address the Committee at the meeting should contact John P. Duncan III, Deputy Administrator, Tobacco Programs, AMS, USDA, STOP 0280, 1400 Independence Avenue, SW., Washington, DC 20250-0280, prior to the meeting. Written statements may be submitted to the Committee before, at or after the meeting. If you need any accommodations to participate in the meeting, please contact the Tobacco Programs at (202) 205-0567 by March 5, 2003, and inform us of your needs.

Dated: January 21, 2003.
A.J. Yates,
Administrator, Agricultural Marketing Service.

[FR Doc. 03-1753 Filed 1-24-03; 8:45 am]

BILLING CODE 3410-02-P